SMALL BUSINESS ADMINISTRATION

[Declaration of Disaster #3262]

State of North Carolina

Alamance County and the contiguous counties of Caswell, Chatham, Guilford, Orange, Randolph, and Rockingham in the State of North Carolina constitute a disaster area due to damages caused by severe storms, winds, and a tornado that occurred on May 25, 2000. Applications for loans for physical damage as a result of this disaster may be filed until the close of business on August 4, 2000 and for economic injury until the close of business on March 5, 2001 at the address listed below or other locally announced locations: U.S. Small Business Administration, Disaster Area 2 Office, One Baltimore Place, Suite 300, Atlanta, GA 30308.

The interest rates are:

For Physical Damage:
HOMEOWNERS WITH CREDIT AVAILABLE ELSEWHERE | 7.375
HOMEOWNERS WITHOUT CREDIT AVAILABLE ELSEWHERE | 3.687
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 6.750
For Economic Injury:
BUSINESSES AND SMALL AGRICULTURAL COOPERATIVES WITHOUT CREDIT AVAILABLE ELSEWHERE | 4.000

The numbers assigned to this disaster are 326211 for physical damage and 9H4900 for economic injury.

(Catalog of Federal Domestic Assistance Program Nos. 59002 and 59008)
Dated: June 5, 2000.
Kris Swedin,
Acting Administrator.

[FR Doc. 00-15283 Filed 6-15-00; 8:45 am]

BILLING CODE 8025-01-P